DEPARTMENT OF COMMERCE

Foreign-Trade Zones Board

[B-53-2015]

Application for Additional Production Authority; The Coleman Company, Inc., Subzone 119I, (Textile-Based Personal Flotation Devices); Notice of Public Hearing and Extension of Comment Period

At the request of the applicant, a public hearing will be held on the application for additional production authority submitted by The Coleman Company, Inc., for activity within Subzone 119I in Sauk Rapids, Minnesota (80 FR 49986, 8-18-2015). The Commerce examiner will hold the public hearing on December 3, 2015, at 9:30 a.m., at the U.S. Department of Commerce, Hoover Building, Room 3407, 1401 Constitution Avenue NW., Washington, DC 20230. Interested parties should indicate their intent to participate in the hearing and provide a summary of their remarks (submitted to ftz@trade.gov or the address indicated below) no later than November 30, 2015.

The comment period for the case referenced above will be extended through January 4, 2016. Rebuttal comments may be submitted during the subsequent 15-day period, until January 19, 2016. Submissions (signed original and one electronic copy) shall be addressed to the FTZ Board's Executive Secretary at: Foreign-Trade Zones Board, U.S. Department of Commerce, Room 21013, 1401 Constitution Avenue NW., Washington, DC 20230-0002.

For further information, contact Pierre Duy at Pierre.Duy@trade.gov or (202) 482-1378.

Dated: October 30, 2015.
Andrew McGilvray,
Executive Secretary.

[FR Doc. 2015-28280 Filed 11-4-15; 8:45 am]

BILLING CODE 3510-DS-P